DEPARTMENT OF THE INTERIOR

National Park Service

60-Day Notice of Intention To Request Clearance of Collection of Information; Opportunity for Public Comment

AGENCY: The Department of the Interior, National Park Service.

ACTION: Notice and request for comments.

SUMMARY: Under provisions of the Paperwork Reduction Act of 1995 and 5 CFR part 1320, Reporting and Record Keeping Requirements, the National Park Service (NPS) invites public comments on an extension of a currently approved collection of information (OMB# 1024-0029).

DATES: Public comments will be accepted on or before April 16, 2007.

ADDRESSES: Send comments to Jo A. Pendry, Concession Program Manager, National Park Service, 1849 C Street, NW., (2410), Washington, DC 20240; e-mail: jo_pendry@nps.gov. All responses to this notice will be summarized and included in the request for the Office of Management and Budget (OMB) approval. All comments will become a matter of public record.

FOR FURTHER INFORMATION CONTACT: Jo A. Pendry, Concessions Program Manager, National Park Service, 1849 C Street, NW., (2410), Washington, DC 20240. Phone: 202/513-7144; Fax: 202/371-2090.

SUPPLEMENTARY INFORMATION: Title: Concessioner Annual Financial Report.

Bureau Form Number(s): 10-356, 10-356a, 10-356b.

OMB Control Number: 1024-0029.

Expiration Date of Approval: April 30, 2007.

Type of Request: Extension of a currently approved information collection.

Description of Need: The regulations at 36 CFR Part 51 primarily implement Title IV of the National Parks Omnibus Management Act of 1998 (Pub. L. 105-391 or the Act), which requires that the Secretary of the Interior exercise authority in a manner consistent with a reasonable opportunity for a concessioner to realize a profit on his operation as a whole commensurate with the capital invested and the obligations assumed. It also requires that franchise fees be determined with consideration to the opportunity for net profit in relation to both gross receipts and capital invested. The financial information being colleted is necessary to provide insight into and knowledge of the concessioner's operation so that this authority can be exercised and franchise fees determined in a timely manner and without an undue burden on the concessioner. This program will measure performance in meeting goals as required by the 1995 Government Performance and Results Act.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: Annually.

Description of Respondents: National Park Service concessioners.

Total Annual Responses: 500.

Estimate of Burden: Approximately 20 hours per response.

Total Annual Burden Hours: 3,800.

Total Non-hour Cost Burden: None.

Dated: January 8, 2007.
Leonard E. Stowe,
NPS, Information Collection Clearance Officer.

[FR Doc. 07-656 Filed 2-13-07; 8:45 am]

BILLING CODE 4312-53-M